DEPARTMENT OF LABOR

Mine Safety and Health Administration

Summary of Decisions Granting in Whole or in Part Petitions for Modification

AGENCY: Mine Safety and Health Administration (MSHA), Labor.

ACTION: Notice of affirmative decisions issued by the Administrators for Coal Mine Safety and Health and Metal and Nonmetal Mine Safety and Health on petitions for modification of the application of mandatory safety standards.

SUMMARY: Under section 101 of the Federal Mine Safety and Health Act of 1977, the Secretary of Labor (Secretary) may allow the modification of the application of a mandatory safety standard to a mine if the Secretary determines either that an alternate method exists at a specific mine that will guarantee no less protection for the miners affected than that provided by the standard, or that the application of the standard at a specific mine will result in a diminution of safety to the affected miners.

Final decisions on these petitions are based on the petitioner's statements, comments and information submitted by interested persons, and a field investigation of the conditions at the mine. MSHA, as designee of the Secretary, has granted or partially granted the requests for modification listed below. In some instances, the decisions are conditioned upon compliance with stipulations stated in the decision. The term FR Notice appears in the list of affirmative decisions below. The term refers to the Federal Register volume and page where MSHA published a notice of the filing of the petition for modification.

FOR FURTHER INFORMATION CONTACT: Petitions and copies of the final decisions are available for examination by the public in the Office of Standards, Regulations, and Variances, MSHA, 1100 Wilson Boulevard, Room 2350, Arlington, Virginia 22209. For further information contact Barbara Barron at (202) 693-9447.

Dated at Arlington, Virginia this 19th day of November 2004.
Marvin W. Nichols, Jr.,
Director, Office of Standards, Regulations, and Variances.

Affirmative Decisions on Petitions for Modification

Docket No.: M-2003-015-C.

FR Notice: 68 FR 15245.

Petitioner: Mettiki Coal, LLC.

Regulation Affected: 30 CFR 75.1325(c).

Summary of Findings: Petitioner's proposal is to conduct blasting in certain locations on the longwall face of the Mettiki Mine without always requiring all miners to leave the face to go to an area that is around at least one corner from the blasting area. The blasting will be conducted at longwall faces at locations more than 200 feet inby the headgate. This is considered an acceptable alternative method for the Mettiki Mine. MSHA grants the petition for modification for the Mettiki Mine with conditions.

Docket No.: M-2003-062-C.

FR Notice: 68 FR 57932.

Petitioner: Tito Coal.

Regulation Affected: 30 CFR 75.1002(a).

Summary of Findings: Petitioner's proposal is to use non-permissible electric equipment such as drags and battery locomotives within 150 feet of the pillar line due in part to the method of mining used in anthracite mines and the alternative evaluation of the mine air quality for methane on an hourly basis during operation. This is considered an acceptable alternative method for the Whites Vein Slope Mine. MSHA grants the petition for modification for the use of non-permissible battery-powered locomotives and associated non-permissible electric components located within 150 feet from pillar workings for the Whites Vein Slope Mine with conditions.

Docket No.: M-2003-077-C.

FR Notice: 68 FR 64129.

Petitioner: Consolidation Coal Company.

Regulation Affected: 30 CFR 75.507.

Summary of Findings: Petitioner's proposal is to install non-permissible submersible pumps in bleeder and return entries and sealed areas of the Robinson Run No. 95 Mine. This is considered an acceptable alternative method for the Robinson Run No. 95. Mine. MSHA grants the petition for the use of low- and medium-voltage, three-phase, alternating-current submersible pump(s) installed in return and bleeder entries and sealed areas in the Robinson Run No. 95 Mine with conditions.

Docket No.: M-2003-086-C.

FR Notice: 68 FR 67218.

Petitioner: Genwal Resources, Inc.

Regulation Affected: 30 CFR 75.1101-8.

Summary of Findings: Petitioner's proposal is to use a water sprinkler system that consists of a single overhead pipe system with automatic sprinklers located not more that 10 feet apart so that the water discharged from the sprinklers will cover 50 feet of fire-resistant belt or 150 feet of non-fire resistant belt adjacent to the belt drive. In addition, automatic sprinklers would be located not more that 10 feet apart so that the water discharged from the sprinkler(s) will cover the drive motor(s), belt take-up electrical controls, and gear reducing unit for each belt drive. This is considered an acceptable alternative method for the South Crandall Canyon Mine. MSHA grants the petition for modification for use of a single overhead pipe sprinkler system with conditions.

Docket No.: M-2003-088-C.

FR Notice: 68 FR 67218.

Petitioner: D & D Coal Company.

Regulation Affected: 30 CFR 75.311(b)(2) and (b)(3).

Summary of Findings: Petitioner's proposal is to permit electrical circuits entering the underground mine to remain energized to the mine's de-watering pumps while the mine ventilation fan is intentionally stopped during idle shifts while no miners are underground in its Primrose Slope Anthracite mine. This is considered an acceptable alternative method for the Primrose Slope Mine. MSHA grants the petition for modification for the Primrose Slope Mine with conditions.

Docket No.: M-2003-090-C.

FR Notice: 68 FR 67218.

Petitioner: Kingwood Mining Company, LLC.

Regulation Affected: 30 CFR 75.503 (30 CFR 18.35).

Summary of Findings: Petitioner's proposal is to use #4 A.W.G. and #2 A.W.G. portable trailing cables up to a maximum length of 750 feet to supply 575-volt, three phase, alternating current to roof bolting machines and shuttle cars under specific terms and conditions. This is considered an acceptable alternative method for the Whitetail Kittanning Mine. MSHA grants the petition for modification for 750-foot trailing cables from the power center to roof bolting machines and shuttle cars during the continuous mining cycle development on larger center pillars for the Whitetail Kittanning Mine with conditions.

Docket No.: M-2003-096-C.

FR Notice: 69 FR 3947.

Petitioner: Knott County Mining Company.

Regulation Affected: 30 CFR 75.900.

Summary of Findings: Petitioner's proposal is to use contactors for undervoltage protection in lieu of using the required circuit breakers under specific terms and conditions. This is considered an acceptable alternative method for the Mine 582. MSHA grants the petition for modification to allow the use of contactors to provide undervoltage and grounded phase and to monitor the grounding conductors for low-voltage power circuits serving the five Horsepower or greater, three-phase alternating current belt drive(s) and pump(s) located in the Mine 582 with conditions.

Docket No.: M-2003-097-C.

FR Notice: 69 FR 3948.

Petitioner: Knott County Mining Company.

Regulation Affected: 30 CFR 75.900.

Summary of Findings: Petitioner's proposal is to use contactors for undervoltage protection in lieu of using the required circuit breakers, and use an additional ground fault protection device for the affected circuits; to eliminated hazards caused by personnel rushing to the remote location to reset breakers; to make travelways safer and to eliminate the risks that miners will have to take out of a sense of urgency to resume production. This is considered an acceptable alternative method for the Puncheon Branch Mine. MSHA grants the petition for modification to allow the use of contactors to provide undervoltage, grounded phase, and monitor the grounding conductors for low-voltage power circuits serving five Horsepower or greater three-phase alternating current belt drive(s) and pump(s) located in the Puncheon Branch Mine with conditions.

Docket No.: M-2004-018-C.

FR Notice: 69 FR 27955.

Petitioner: Dakota Westmoreland Corporation.

Regulation Affected: 30 CFR 77.1607(u).

Summary of Findings: Petitioner's proposal is to use a portable hydraulic unit (power pact) to tow large trucks in lieu of using a tow bar and safety chain; provide training to operators and mechanics to perform the installations of the pack; and if anything fails, automatically set up haul truck brakes and stop all towing procedures. This is considered an acceptable alternative method for the Beulah Mine. MSHA grants the petition for modification for the Beulah Mine with conditions.

Docket No.: M-2004-021-C.

FR Notice: 69 FR 30726.

Petitioner: Spartan Mining Company.

Regulation Affected: 30 CFR 75.1002.

Summary of Findings: Petitioner's proposal is to transfer high-voltage, 2,400-volt continuous miner equipment from one mine to another mine within the Spartan Mining Company; and to provide training on high-voltage safety, testing, and maintenance procedures to all personnel who perform maintenance on the high-voltage continuous miner system, and who work in proximity to high-voltage equipment or move high-voltage equipment or cable(s), before the proposed alternative method is implemented. This is considered an acceptable alternative method for the Laurel Creek Coalburg mine. MSHA grants the petition for modification for the Laurel Creek Coalburg Mine with conditions.

Docket No.: M-2004-026-C.

FR Notice: 69 FR 43628.

Petitioner: Ohio County Coal Company.

Regulation Affected: 30 CFR 75.1103-4(a).

Summary of Findings: Petitioner's proposal is to install a carbon monoxide monitoring system as an early warning fire detection system near the center and in the upper third of the belt entry in a location that would not expose personnel working on the system to unsafe situations under specific terms and conditions. This is considered an acceptable alternative method for the Big Run Underground Mine. MSHA grants the petition for modification for the use of a carbon monoxide monitoring system that identifies the location of sensors in lieu of identifying belt flights at the Big Run Underground Mine with conditions.

Docket No.: M-2004-034-C.

FR Notice: 69 FR 46186.

Petitioner: Warrior Coal, LLC.

Regulation Affected: 30 CFR 75.1103-4(a).

Summary of Findings: Petitioner's proposal is to install a low-level carbon monoxide detecting system as an early warning fire detection system in all belt entries where a monitoring system identifies a sensor location in lieu of identifying each belt flight. This is considered an acceptable alternative method for the Cardinal Mine. MSHA grants the petition for modification for the use of a carbon monoxide system that identifies the location of sensors in lieu of identifying belt flights for the Cardinal Mine with conditions.

Docket No.: M-2004-036-C.

FR Notice: 69 FR 51863.

Petitioner: Warrior Coal, LLC.

Regulation Affected: 30 CFR 75.1101-1(b).

Summary of Findings: Petitioner's proposal is to use the deluge-type water spray systems installed at belt-conveyor drives in lieu of blow-off dust covers for nozzles; and train a person on testing procedures specific to the deluge-type water spray fire suppression system who will once every 7 days (1) conduct a visual examination of each deluge-type water spray fire suppression system, (2) conduct a functional test of the deluge-type water spray fire suppression system by actuating the system and observing its performance, (3) record results of the examinations and test in a book maintained on the surface and made available to interested parties, and (4) immediately correct any malfunction or clogged nozzle that is detected during examination and test. This is considered an acceptable alternative method for the Cardinal Mine. MSHA grants the petition for modification for use of the deluge-type water spray systems installed at belt-conveyor drives in lieu of blow-off dust covers for nozzles at the Cardinal Mine with conditions.

Docket No.: M-2004-006-M.

FR Notice: 69 FR 35686.

Petitioner: Penn Big Bed Slate Company, Inc.

Regulation Affected: 30 CFR 56.19012.

Summary of Findings: Petitioner's proposal is to use oversized grooves on the crane drums. The drum grooves are ¾-inch and Penn Slate uses ⅝-inch wire rope on all of their hoists. The ⅝-inch wire ropes have been used on these drums for more than 70 years and the hoists have operated with no reported accidents or injuries. The hoists transport miners into the pit, and blocks of slate out of the pit. The average slate block weighs up to 7 tons. The petitioner alleges that the ⅝-inch wire rope does not flatten or restrict the cable. Each year, 30 to 65 feet of wire rope is cut off the working end of the wire rope to ensure that it is safe for continued service. Only during the last year of service is the cable in the grooves used to operate the hoists. This is considered an acceptable alternative method for the Manhattan Quarry Penn Big Bed Mine. MSHA grants the petition for modification for the Manhattan Quarry Penn Big Bed Mine with conditions.

[FR Doc. 04-26279 Filed 11-26-04; 8:45 am]

BILLING CODE 4510-43-P